DEPARTMENT OF HOMELAND SECURITY

Coast Guard

33 CFR Part 165

[Docket No. USCG-2020-0708]

Safety Zones; Annual Firework Displays Within Captain of the Port, Puget Sound Area of Responsibility

AGENCY: Coast Guard, DHS.

ACTION: Notice of enforcement of regulation.

SUMMARY: The Coast Guard will enforce one safety zone for an annual firework display in the Area of Responsibility of the Captain of the Port Sector Puget Sound. This action is necessary to protect life and property from hazards associated with the firework display. During the enforcement periods, entry into, transit through, mooring, or anchoring within this safety zone is prohibited unless authorized by the Captain of the Port Sector Puget Sound or a Designated Representative.

DATES: The regulations in 33 CFR 165.1332 will be enforced for Alderbrook Resort & Spa Fireworks display from 5 p.m. on December 31, 2020, through 1 a.m. on January 1, 2021.

FOR FURTHER INFORMATION CONTACT: If you have questions about this notice of enforcement, call or email Lieutenant Peter J. McAndrew, Sector Puget Sound Waterways Management Division, U.S. Coast Guard; telephone 206-217-6051, email SectorPugetSoundWWM@uscg.mil.

SUPPLEMENTARY INFORMATION: The Coast Guard will enforce regulations in 33 CFR 165.1332 for the safety zone established for Annual Fireworks Displays in Hood Canal. These regulations will be enforced from 5 p.m. on December 31, 2020, through 1 a.m. on January 1, 2021, at the following locations:

Event name | Location | Latitude | Longitude
Alderbrook Resort & Spa Fireworks | Hood Canal | 47°21.033′ N | 123°04.1′ W.

This action is necessary to provide for the safety of life on navigable waterways during this event. Our annual fireworks displays and other events in the Area of Responsibility of the Captain of the Port Sector Puget Sound (AOR) that require safety zones are listed in 33 CFR 165.1332. During the enforcement periods, as reflected in § 165.1332 (d), no vessel operator may enter, transit, moor, or anchor within this safety zone, except for vessels authorized by the Captain of the Port or Designated Representative.

In addition to this notice of enforcement in the Federal Register, the Coast Guard plans to provide notification of this enforcement period via a Broadcast Notice to Mariners and a Local Notice to Mariners.

Dated: December 7, 2020.
P.M. Hilbert,
Captain, U.S. Coast Guard, Captain of the Port Sector Puget Sound.

[FR Doc. 2020-27255 Filed 12-17-20; 8:45 am]

BILLING CODE 9110-04-P